DEPARTMENT OF THE TREASURY

Internal Revenue Service

26 CFR Part 1

[REG-144859-04]

RIN 1545-BD72

Section 1367 Regarding Open Account Debt; Correction

AGENCY: Internal Revenue Service (IRS), Treasury.

ACTION: Cancellation of notice of public hearing on proposed rulemaking.

SUMMARY: This document cancels a public hearing on proposed regulations under section 1367 of the Internal Revenue Code relating to the treatment of open account debt between S corporations and their shareholders.

DATES: The public hearing, originally scheduled for July 31, 2007, at 10 a.m., is cancelled.

FOR FURTHER INFORMATION CONTACT: Richard A. Hurst of the Publications and Regulations Branch, Legal Processing Division, Associate Chief Counsel (Procedure and Administration), at Richard.A.Hurst@irscounsel.treas.gov.

SUPPLEMENTARY INFORMATION: A notice of public hearing that appeared in the Federal Register on Thursday, April 12, 2007 (72 FR 18417), announced that a public hearing was scheduled for July 31, 2007, at 10 a.m., in the IRS Auditorium, Internal Revenue Building, 1111 Constitution Avenue, NW., Washington, DC. The subject of the public hearing is under section 1367 of the Internal Revenue Code.

The public comment period for these regulations expired on July 11, 2007. The notice of proposed rulemaking and notice of public hearing instructed those interested in testifying at the public hearing to submit a request to speak and an outline of the topics to be addressed. As of Tuesday, July 17, 2007, no one has requested to speak. Therefore, the public hearing scheduled for July 31, 2007, is cancelled.

LaNita Van Dyke
Chief, Publications and Regulations Branch, Legal Processing Division, Associate Chief Counsel (Procedure and Administration).

[FR Doc. E7-14082 Filed 7-19-07; 8:45 am]

BILLING CODE 4830-01-P